DEPARTMENT OF AGRICULTURE

Forest Service

Information Collection; Request for Comments; Land Exchanges

AGENCY: Forest Service, USDA.

ACTION: Notice; correction.

SUMMARY: The notice seeking comments concerning the information collection for land exchanges published in the Federal Register/Vol. 71, No. 116/Friday, June 16, 2006; Page 34879 provided an incorrect e-mail address.

The correct e-mail address to submit comments on information collection for land exchanges is: land exchange@fs.fed.us.

FOR FURTHER INFORMATION CONTACT: Kathleen L. Dolge, Lands Staff,Forest Service, USDA, Yates Building, 201 14th Street, SW., Washington, DC 20250-1124, Telephone (202) 205-1248.

Dated: July 7, 2006.
Gloria Manning,
Associate Deputy Chief, National Forest System.

[FR Doc. E6-11299 Filed 7-17-06; 8:45 am]

BILLING CODE 3410-11-P